DEPARTMENT OF COMMERCE

National Oceanic and Atmospheric Administration

Agency Information Collection Activities; Submission to the Office of Management and Budget (OMB) for Review and Approval; Comment Request; Expanding Industry-Collaborative Research Surveys in Untrawlable Habitats Along the Pacific Coast

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 5, 2024, during a 60-day comment period. This notice allows for an additional 30 days for public comments.

Agency: National Oceanic and Atmospheric Administration, Commerce.

Title: Expanding Industry-Collaborative Research Surveys in Untrawlable Habitats along the Pacific Coast.

OMB Control Number: 0648-XXXX.

Form Number(s): None.

Type of Request: Regular submission [new information collection].

Number of Respondents: 200.

Average Hours per Response: 0.33.

Total Annual Burden Hours: 66.

Needs and Uses: This request is to initiate a new collection of information from members of the recreational and commercial fishing communities along the Pacific Coast to support expansion of fishery-independent groundfish research surveys conducted by or in coordination with the National Marine Fisheries Service's (NMFS) Northwest Fisheries Science Center (NWFSC) and Southwest Fisheries Science Centers (SWFSC). The two centers are working jointly on this collection. Statutory and regulatory authority for the conduct of these surveys and their expansion emanate from the Magnuson-Stevens Act (MSA) and NMFS National Standard (NS) 2. MSA Sec. 402(e) and NS 2 (50 CFR 600.315) authorize resource assessments including research surveys as a means of generating the best available scientific information for assessing and managing fish stocks, including the groundfish stocks along the Pacific Coast. MSA Sec. 404(b)(3) authorizes NMFS to conduct these surveys aboard industry vessels.

This collection will generate information essential for the expansion of existing industry-collaborative groundfish research surveys in untrawlable habitats along the Pacific Coast. Survey expansion will close spatial gaps in existing survey coverage and provide information for the monitoring, assessment, and management of ecologically and economically important groundfish stocks including quillback rockfish (Sebastes maliger), copper rockfish (S. caurinus), yelloweye rockfish (S. ruberrimus), lingcod (Ophiodon elongatus), and many others. Due to the paucity of data for some of these species and the resulting uncertainty surrounding the abundance and trajectory of these stocks within stock assessments, large areas of the coast have been closed to most fishing as a precautionary measure which has been economically damaging to a considerable portion of the recreational and commercial fishing communities. Partnering with these communities which include some of the nation's most knowledgeable individuals about groundfish biology and behavior will support NMFS' efforts to expand surveys, close data gaps, reduce scientific uncertainty, and more effectively manage the groundfish stocks along the Pacific Coast.

NMFS will generate a spreadsheet template that will be distributed on a voluntary basis to members of the recreational and fishing communities along the Pacific Coast to solicit information about the most appropriate sampling locations to include in potential survey expansion as well as the role habitat, gear type, and vessel platform may play when targeting different species. Specifically, NMFS requests GPS coordinates and depths for potential survey sampling locations as well as the habitat type and target species associated with a particular location, and the most appropriate gear type for each location. Primary respondents will be identified by collaborating with existing industry representatives and liaisons along the coast to ensure broad spatial coverage, however, NMFS plans to place no restrictions on broader, voluntary distributions by primary respondents to other knowledgeable members of the fishing community. The information generated through this collection will inform the expansion of existing surveys including the specific gear type(s), target species, and sampling locations of the expansion areas.

Affected Public: Individuals or households.

Frequency: Once.

Respondent's Obligation: Voluntary.

Legal Authority: Magnuson-Stevens Act (16 U.S.C. Ch. 38 sec. 1801 et seq.).

This information collection request may be viewed at www.reginfo.gov. Follow the instructions to view the Department of Commerce collection currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary for Economic Affairs, Commerce Department.

[FR Doc. 2025-05350 Filed 3-27-25; 8:45 am]

BILLING CODE 3510-22-P